ENVIRONMENTAL PROTECTION AGENCY

[FRL-7094-1; CWA-HQ-2001-6022; RCRA-HQ-2001-6022; CAA-HQ-6022]

Clean Water Act Class II: Proposed Administrative Settlement, Penalty Assessment and Opportunity To Comment Regarding Standard Steel, a Division of Freedom Forge Corporation; Extension of Comment Period

AGENCY: Environmental Protection Agency (EPA).

ACTION: Notice.

SUMMARY: On September 27, 2001, EPA published in the Federal Register, (66 FR 49379) information concerning a proposed settlement with Standard Steel, a Division of Freedom Forge Corporation (“Standard Steel”) to resolve violations of the Clean Water Act (“CWA”), Resource Conservation and Recovery Act (“RCRA”), Clean Air Act (“CAA”), and their implementing regulations. On October 10, 2001, EPA published additional information concerning this proposed settlement in the Federal Register, (66 FR 51667). The purpose of this extension is to offer interested parties the opportunity to comment on all aspects of this consent agreement and proposed final order. This notice extends the public comment period to November 9, 2001.

DATES: Comments are due on or before November 9, 2001.

ADDRESSES: Mail written comments to the Enforcement & Compliance Docket and Information Center (2201A), Docket Number EC-2001-006, Office of Enforcement and Compliance Assurance, U.S. Environmental Protection Agency, 1200 Pennsylvania Avenue, NW, Mail Code 2201A, Washington, DC 20460. (Comments may be submitted on disk in WordPerfect 8.0 or earlier versions.) Written comments may be delivered in person to: Enforcement and Compliance Docket Information Center, U.S. Environmental Protection Agency, Rm. 4033, Ariel Rios Bldg., 1200 Pennsylvania Avenue, NW, Washington, DC. Submit comments electronically to docket.oeca@epa.gov. Electronic comments may be filed online at many Federal Depository Libraries.

The consent agreement, the proposed final order, and public comments, if any, may be reviewed at the Enforcement and Compliance Docket Information Center, U.S. Environmental Protection Agency, Rm. 4033, Ariel Rios Bldg., 1200 Pennsylvania Avenue, NW, Washington, DC. Persons interested in reviewing these materials must make arrangements in advance by calling the docket clerk at 202-564-2614. A reasonable fee may be charged by EPA for copying docket materials.

FOR FURTHER INFORMATION CONTACT: Beth Cavalier, Multimedia Enforcement Division (2248-A), U.S. Environmental Protection Agency, 1200 Pennsylvania Avenue, NW, Washington, DC 20460; telephone (202) 564-3271; fax: (202) 564-9001; e-mail: cavalier.beth@epa.gov.

SUPPLEMENTARY INFORMATION:

Electronic Copies

Electronic copies of this document are available from the EPA homepage under the link “Laws and Regulations” at the Federal Register—Environmental Documents entry (http://www.epa.gov/fedrgstr).

Dated: October 23, 2001.
David A. Nielsen,
Director, Multimedia Enforcement Division, Office of Enforcement and Compliance Assurance.

[FR Doc. 01-27287 Filed 10-29-01; 8:45 am]

BILLING CODE 6560-50-P